DEPARTMENT OF ENERGY

Federal Energy Regulatory Commission

[Docket No. RP03-191-000]

Questar Pipeline Company; Notice of Tariff Filing

December 13, 2002.

Take notice that on December 9, 2002, Questar Pipeline Company (Questar) tendered for filing of its FERC Gas Tariff, Ninth Revised Sheet No. 1, First Revised Volume No. 1, Fourteenth Revised Sheet No. 40 and First Revised Sheet No. 99L, effective January 10, 2003.

Questar proposed to add section 31, Off-System Services, to Part 1 of the General Terms and Conditions of its FERC Gas Tariff. This section allows Questar to waive the “shipper must hold title” policy to the extent that Questar renders service for others using off-system capacity pursuant to its existing tariff and rates. This proposal will not change or impact the quality of service for existing firm or interruptible customers under Questar's tariff. In addition, Questar will be at risk for recovery of any costs associated with the purchase of any off-system capacity.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-32024 Filed 12-18-02; 8:45 am]

BILLING CODE 6717-01-P